DEPARTMENT OF STATE

[Public Notice 5304]

Advisory Committee on International Economic Policy; Notice of Open Meeting

The Advisory Committee on International Economic Policy (ACIEP) will meet from 1:30 p.m. to 4:30 p.m. on Thursday, March 9, 2006, in Room 1107, U.S. Department of State, 2201 C Street NW., Washington, DC. The meeting will be hosted by Assistant Secretary of State for Economic and Business Affairs E. Anthony Wayne and Committee Chairman R. Michael Gadbaw. The ACIEP serves the U.S. Government in a solely advisory capacity concerning issues and problems in international economic policy. Items on the agenda for this meeting include: (1) U.S.-China Economic Relations and (2) U.S. International Investment Policy.

This meeting is open to the public as seating capacity allows. Entry to the building is controlled; to obtain pre-clearance for entry, members of the public planning to attend should provide, by March 6, their name, professional affiliation, social security number (or other identification, such as driver's license number), date of birth, and citizenship to Dana Crute by fax (202) 647-5936, e-mail (crutedf@state.gov), or telephone (202) 647-0847. One of the following forms of valid photo identification will be required for admission to the State Department building: U.S. driver's license, passport, or U.S. Government identification card. Enter the Department of State from the C Street lobby. In view of escorting requirements, non-Government attendees should plan to arrive not less than 15 minutes before the meeting begins.

For additional information, contact David Freudenwald, Office of Economic Policy and Public Diplomacy, Bureau of Economic and Business Affairs, at (202) 647-2231 or freudenwalddj@state.gov.

Dated: February 8, 2006.
Laura Faux-Gable,
Office Director, Office of Economic Policy Analysis and Public Diplomacy, Department of State.

[FR Doc. E6-2149 Filed 2-14-06; 8:45 am]

BILLING CODE 4710-07-P